DEPARTMENT OF THE INTERIOR

Bureau of Land Management

[LLNV912000 L13400000.PQ0000 LXSS0006F0000; 12-08807; MO# 4500094009; TAS: 14X1109]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Northeastern Great Basin Resource Advisory Council (RAC), will hold two meetings in Nevada in fiscal year 2016 and one at the beginning of fiscal year 2017. The meetings are open to the public. July 22, California Trail Interpretive Center, 1 Trail Center Way, Elko, Nevada 89801, Nevada; Aug. 11-12, BLM Battle Mountain District Office, 50 Bastian Road, Battle Mountain, NV 89820, Nevada; and Oct. 6-7, 702 N. Industrial Way, HC 33, Box 33500, Ely, NV 89301, Nevada. Meeting times will be published in local and regional media sources at least 14 days before each meeting. All meetings will include a public comment period.

FOR FURTHER INFORMATION CONTACT: Greg Deimel, Public Affairs Specialist, Elko District Office, 3900 East Idaho Street, NV 89801, telephone: (775) 753-0386, email: gdeimel@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• July 22 (Elko)—Resource Advisory Council Standards and Guidelines, Greater Sage-Grouse, Range Management, and Southern Nevada Public Land Management Act.

• Aug. 11-12 (Battle Mountain)—Mining and Sage Grouse Habitat Restoration and Conservation, Field Tour with Barrick.

• October 6-7 (Ely)—Range Management, follow-up on Water Canyon Fertility Project, herd management areas.

Managers' reports of district office activities will be given at each meeting. The Council may raise other topics at the meetings.

Final agendas will be posted on-line at the BLM Northern Great Basin RAC Web site at http://www.blm.gov/nv/st/en/res/resource_advisory.html and will be published in local and regional media sources at least 14 days before each meeting.

Individuals who need special assistance such as sign language interpretation or other reasonable accommodations, or who wish to receive a copy of each agenda, may contact Greg Deimel no later than 10 days prior to each meeting.

Rudy Evenson,
Deputy Chief, Office of Communications.

[FR Doc. 2016-15961 Filed 7-5-16; 8:45 am]

BILLING CODE 4310-HC-P